SOCIAL SECURITY ADMINISTRATION

Agency Information Collection Activities: Comment Request

The Social Security Administration (SSA) publishes a list of information collection packages requiring clearance by the Office of Management and Budget (OMB) in compliance with Public Law 104-13, the Paperwork Reduction Act of 1995, effective October 1, 1995. This notice includes a revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov. (SSA), Social Security Administration, DCRDP, Attn: Reports Clearance Director, 107 Altmeyer Building, 6401 Security Blvd., Baltimore, MD 21235, Fax: 410-966-2830, Email address: OR.Reports.Clearance@ssa.gov.

SSA submitted the information collection below to OMB for clearance. Your comments regarding the information collection would be most useful if OMB and SSA receive them 30 days from the date of this publication. To be sure we consider your comments, we must receive them no later than October 15, 2013. Individuals can obtain copies of the OMB clearance packages by writing to OR.Reports.Clearance@ssa.gov.

Social Security Benefits Application—20 CFR 404.310-404.311, 404.315-404.322, 404.330-404.333, 404.601-404.603, and 404.1501-404.1512—0960-0618. Title II of the Social Security Act (Act) provides retirement, survivors, and disability benefits to members of the public who meet the required eligibility criteria and file the appropriate application. This collection comprises the various application methods for each type of benefits. These methods include the following modalities: Paper forms (Forms SSA-1, SSA-2, and SSA-16); Modernized Claims System (MCS) screens for in-person interview applications; and Internet-based iClaim and iAppointment applications. SSA uses the information we collect through these modalities to determine: (1) the applicants' eligibility for the above-mentioned Social Security benefits and (2) the amount of the benefits. The respondents are applicants for retirement, survivors, and disability benefits under title II of the Act.

Type of Request: Revision of an OMB-approved information collection.

Modality of completion | Number of respondents | Frequency of response | Average burden per response (minute) | Estimated annual burden (hours)
Form SSA-1
MCS/Signature Proxy | 1,441,400 | 1 | 10 | 240,233
Paper | 2,300 | 1 | 11 | 422
Medicare-only MCS | 418,300 | 1 | 7 | 48,802
Medicare-only Paper | 300 | 1 | 7 | 35
Totals | 1,862,300 |  |  | 289,492
Form SSA-2
MCS/Signature Proxy | 364,000 | 1 | 14 | 84,933
Paper | 1,200 | 1 | 15 | 300
Totals | 341,200 |  |  | 85,233
Form SSA-16
MCS/Signature Proxy | 1,695,800 | 1 | 19 | 537,003
Paper | 53,300 | 1 | 20 | 17,767
Totals | 1,749,100 |  |  | 554,770
iClaim Screens
iClaim 3rd Party | 431,357 | 1 | 15 | 107,839
iClaim Applicant after 3rd Party Completion | 431,357 | 1 | 5 | 35,946
First Party iClaim—Domestic Applicant | 1,838,943 | 1 | 15 | 459,736
First Party iClaim—Foreign Applicant | 8,291 | 1 | 3 | 415
Medicare-only iClaim | 552,400 | 1 | 10 | 92,067
Totals | 3,262,348 |  |  | 696,003
iAppointment Screens
iAppointment | 200,000 | 1 | 10 | 33,333
Grand Total
Total | 7,438,948 |  |  | 1,658,831

Dated: September 9, 2013.
Naomi Sipple,
Management Analyst,
Reports Clearance Team,
Social Security Administration.

[FR Doc. 2013-22169 Filed 9-11-13; 8:45 am]

BILLING CODE 4191-02-P